DEPARTMENT OF TRANSPORTATION

Federal Aviation Administration

14 CFR Part 71

[Docket No. FAA-2013-0749; Airspace Docket No. 13-ASW-16]

Proposed Amendment of Class D Airspace; Dallas, Addison Airport, TX

AGENCY: Federal Aviation Administration (FAA), DOT.

ACTION: Notice of proposed rulemaking (NPRM), withdrawal.

SUMMARY: A NPRM published in the Federal Register of September 6, 2013, to amend the Class D airspace ceiling at Addison Airport, Dallas, TX, is being withdrawn. Upon review, the FAA determined that the proposed rulemaking action is premature in that an existing Dallas/Fort Worth Class B airspace rulemaking action is pending.

DATES: As of September 19, 2013, the proposed rule published September 6, 2013, at 78 FR 54795, is withdrawn.

FOR FURTHER INFORMATION CONTACT: Scott Enander, Central Service Center, Operations Support Group, Federal Aviation Administration, Southwest Region, 2601 Meacham Blvd., Fort Worth, TX 76137; telephone: 817-321-7716.

SUPPLEMENTARY INFORMATION:

History

On September 6, 2013, a NPRM was published in the Federal Register proposing to amend the Addison Airport Class D airspace ceiling (78 FR 54795). Subsequent to that publication, the FAA found that references addressing changes or adjustments to air traffic flows in the Dallas-Fort Worth metropolitan area are in error and that the proposed action is premature in that a Dallas/Fort Worth Class B airspace rulemaking action is pending. Upon completion of the Dallas/Fort Worth Class B airspace rulemaking action, the FAA will reconsider future action to modify Addison Airport Class D airspace, if warranted.

List of Subjects in 14 CFR Part 71

Airspace, Incorporation by reference, Navigation (air).

The Withdrawal

Accordingly, pursuant to the authority delegated to me, the Notice of Proposed Rulemaking, as published in the Federal Register on September 6, 2013 (78 FR 54795) (FR Doc. 2013-21751), is hereby withdrawn.

Authority: 49 U.S.C. 106(g); 40103, 40113, 40120; E.O. 10854, 24 FR 9565, 3 CFR, 1959-1963 Comp., p. 389.

Issued in Fort Worth, TX, on September 11, 2013.
David P. Medina,
Manager, Operations Support Group, ATO Central Service Center.

[FR Doc. 2013-22852 Filed 9-18-13; 8:45 am]

BILLING CODE 4901-13-P